FEDERAL COMMUNICATIONS COMMISSION

[CC Docket No. 92-237; DA 03-510]

Next Meeting of the North American Numbering Council

AGENCY: Federal Communications Commission.

ACTION: Notice.

SUMMARY: On February 28, 2003, the Commission released a public notice announcing the March 19, 2003 meeting and agenda of the North American Numbering Council (NANC). The intended effect of this action is to make the public aware of the NANC's next meeting and its agenda.

DATE: Wednesday, March 19, 2003 9 am.

ADDRESSES: Telecommunications Access Policy Division, Wireline Competition Bureau, Federal Communications Commission, The Portals II, 445 12th Street, SW., Suite 5-A420, Washington, DC 20554. Requests to make an oral statement or provide written comments to the NANC should be sent to Deborah Blue.

FOR FURTHER INFORMATION CONTACT: Deborah Blue, Special Assistant to the Designated Federal Officer (DFO) at (202) 418-1466 or dblue@fcc.gov. The fax number is: (202) 418-2345. The TTY number is: (202) 418-0484.

SUPPLEMENTARY INFORMATION: Released: February 28, 2003.

The North American Numbering Council (NANC) has scheduled a meeting to be held Wednesday, March 19, 2003, from 9 a.m. until 5 p.m. The meeting will be held at the Federal Communications Commission, Portals II, 445 12th Street, SW, Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

Proposed Agenda—Wednesday, March 19, 2003, 9 am

1. Announcements and Recent News

2. Approval of Minutes

—Meeting of January 22, 2003

3. Report of the North American Numbering Plan Administrator (NANPA)

—CO Code activity

—NRUF Update

—Publishing NPA and NANP exhaust projections

—Other NANPA activity

4. Report of National Thousands Block Pooling Administrator

—Activity report

—Trend of problems caused by intra-Service Provider porting on contaminated number blocks.

5. Report of Oversight Working Group

—NANPA Performance Review

—Review of Change Orders

—Review of PA semi-annual forecasting issue

—Performance Improvement Plan

6. Report of 3-Digit DIG IMG

7. Status of Industry Numbering Committee activities

8. Report of the Local Number Portability Administration (LNPA) Working Group

—Standard for service providers requiring multiple LRNs

—Wireless Number Portability Operations (WNPO) Subcommittee

9. Report from NBANC

10. Report of Cost Recovery Working Group

11. Briefing on ENUM Developments

12. Conclude discussion of VoIP use of numbers (continued from January meeting)

13. Summary of Action Items

14. Steering Committee

—Table of NANC Projects

15. Public Comments and Participation (5 minutes per speaker)

16. Other Business

Adjourn no later than 5 p.m.

Next Meeting: Tuesday, May 13, 2003.

Federal Communications Commission.
Cheryl L. Callahan,
Assistant Chief, Telecommunications Access Policy Division, Wireline Competition Bureau.

[FR Doc. 03-5151 Filed 3-4-03; 8:45 am]

BILLING CODE 6712-01-P